SECURITIES AND EXCHANGE COMMISSION

[Release No. 34-81652; File No. SR-NYSEARCA-2017-108]

Self-Regulatory Organizations; NYSE Arca, Inc.; Notice of Filing and Immediate Effectiveness of Proposed Rule Change To Amend Its Rules and the NYSE Arca Options Fees and Charges Schedule in Connection With the Name Change of Its Affiliate NYSE MKT LLC to NYSE American LLC

September 19, 2017.

Pursuant to Section 19(b)(1) ¹ of the Securities Exchange Act of 1934 (the “Act”) ² and Rule 19b-4 thereunder,³ notice is hereby given that, on September 8, 2017, NYSE Arca, Inc. (the “Exchange” or “NYSE Arca”) filed with the Securities and Exchange Commission (the “Commission”) the proposed rule change as described in Items I and II below, which Items have been prepared by the self-regulatory organization. The Commission is publishing this notice to solicit comments on the proposed rule change from interested persons.

¹ 15 U.S.C.78s(b)(1).

² 15 U.S.C. 78a.

³ 17 CFR 240.19b-4.

I. Self-Regulatory Organization's Statement of the Terms of Substance of the Proposed Rule Change

The Exchange proposes, in connection with the name change of its affiliate NYSE MKT LLC to NYSE American LLC, proposes [sic] to amend its rules and the NYSE Arca Options Fees and Charges schedule (the “Options Fee Schedule”).

The proposed rule change is available on the Exchange's Web site at www.nyse.com, at the principal office of the Exchange, and at the Commission's Public Reference Room.

II. Self-Regulatory Organization's Statement of the Purpose of, and Statutory Basis for, the Proposed Rule Change

In its filing with the Commission, the self-regulatory organization included statements concerning the purpose of, and basis for, the proposed rule change and discussed any comments it received on the proposed rule change. The text of those statements may be examined at the places specified in Item IV below. The Exchange has prepared summaries, set forth in sections A, B, and C below, of the most significant parts of such statements.

A. Self-Regulatory Organization's Statement of the Purpose of, and the Statutory Basis for, the Proposed Rule Change

1. Purpose

The Exchange, in connection with the name change of its affiliate NYSE MKT LLC (“NYSE MKT”) to NYSE American LLC (“NYSE American”), proposes to amend its rules and the Options Fee Schedule.⁴

⁴ The Exchange originally filed the proposed changes on August 25, 2017 (SR-NYSEArca-2017-95), withdrew such changes on September 6, 2017 and refiled on the same day (SR-NYSEArca-2017-106). SR-NYSEArca- 2017-106 was subsequently withdrawn on September 8, 2017 and replaced by this filing.

Background

On March 16, 2017, NYSE MKT filed rule changes with the Commission in connection with its name change to NYSE American.⁵ In addition, on May 19, 2017, NYSE MKT filed rule changes with the Commission associated with the rebranding of NYSE Amex Options, the Exchange's facility for trading options, to NYSE American Options.⁶ The NYSE MKT name change to NYSE American became operative on July 24, 2017. Accordingly, the Exchange proposes to amend certain of its rules and the Options Fee Schedule as detailed below to reflect the new name of its affiliate NYSE American.

⁵ See Securities Exchange Act Release No.80283 (March 21, 2017), 82 FR 15244 (March 27, 2017) (SR-NYSEMKT-2017-14).

⁶ See Securities Exchange Act Release No. 80748 (May 23, 2017), 82 FR 24764 (May 30, 2017) (SR-NYSEMKT-2017-20).

Proposed Rule Changes

• The Exchange proposes to replace “NYSE MKT” with “NYSE American” in Rule 5.25-O, Commentary .03 (Margins); Rule 6.96-O(b) (Operation of Routing Broker); 5.2-E(b) (General); 5.2-E(d) (Preferred Stock and Similar Issues); 5.2-E(e) (Bonds and Debentures); 5.5-E(a), Commentary .02 and .03 (Maintenance Requirements and Delisting Procedures); 7.31-E(f) (Orders and Modifiers); and 7.45-E(c) (Operation of Routing Broker).

• Rule 7.31-E has a notice stating that an amended version of the rule has been approved but is not yet operative.⁷ The notice includes a link to the amended version of the rule and the relevant approval order. The Exchange proposes to replace “NYSE MKT” with “NYSE American” in the text of the amended but not yet operative version of Rule 7.31-E. Exhibit 5B sets forth the proposed revised text.

⁷ The Exchange will announce by Trader Update when the amended version of Rule 7.31-E will become operative.

• The Exchange proposes to replace “NYSE MKT LLC” with “NYSE American LLC” in Rule 5.82-O(a) (Applicability; Definitions Related to ByRDs), Rule 6.96-O(b), Rule 7.37-E(d) (Order Execution and Routing), and Rule 7.45-E(c)(1).

Proposed Changes to the Options Fee Schedule

• Options Fee Schedule: Under “Co-Location Fees,” in General Notes 1 and 4, the Exchange proposes to replace “NYSE MKT LLC” with “NYSE American LLC” and replace “NYSE MKT” with “NYSE American.” In addition, the Exchange proposes to replace “NYSE Amex Options” with “NYSE American Options” in the table in General Note 4.

None of the foregoing changes are substantive.

2. Statutory Basis

The Exchange believes that the proposed rule change is consistent with Section 6(b) of the Exchange Act,⁸ in general, and with Section 6(b)(1) ⁹ in particular, in that it enables the Exchange to be so organized as to have the capacity to be able to carry out the purposes of the Exchange Act and to comply, and to enforce compliance by its exchange members and persons associated with its exchange members, with the provisions of the Exchange Act, the rules and regulations thereunder, and the rules of the Exchange.

⁸ 15 U.S.C. 78f(b).

⁹ 15 U.S.C. 78f(b)(1).

The proposed rule change is a non-substantive change and does not impact the governance or ownership of the Exchange. The Exchange believes that the proposed rule change would enable the Exchange to continue to be so organized as to have the capacity to carry out the purposes of the Exchange Act and comply and enforce compliance with the provisions of the Exchange Act by its members and persons associated with its members, because ensuring that the rules and Options Fee Schedule accurately reflect the name change of the Exchange's affiliate from NYSE MKT to NYSE American and the rebranding of NYSE Amex Options to NYSE American Options would contribute to the orderly operation of the Exchange by adding clarity and transparency to its rules and fee schedule.

For similar reasons, the Exchange also believes that the proposed rule change is consistent with Section 6(b)(5) of the Act,¹⁰ in that it is designed to prevent fraudulent and manipulative acts and practices, to promote just and equitable principles of trade, to foster cooperation and coordination with persons engaged in facilitating transactions in securities, to remove impediments to and perfect the mechanism of a free and open market and a national market system and, in general, to protect investors and the public interest.

¹⁰ 15 U.S.C. 78f(b)(5).

The Exchange believes that the proposed rule change would remove impediments to and perfect the mechanism of a free and open market and a national market system by ensuring that market participants can more easily navigate, understand and comply with the rules and Options Fee Schedule. The Exchange believes that, by ensuring that such rules and fee schedule accurately reflect the name change of its affiliate from NYSE MKT to NYSE American and the rebranding of NYSE Amex Options to NYSE American Options, the proposed rule change would reduce potential investor or market participant confusion.

B. Self-Regulatory Organization's Statement on Burden on Competition

The Exchange does not believe that the proposed rule change will impose any burden on competition that is not necessary or appropriate in furtherance of the purposes of the Act. The proposed rule change is not intended to address competitive issues but rather is concerned solely with updating the rules, and Options Fee Schedule to reflect its affiliate's name change from NYSE MKT to NYSE American and rebranding of NYSE Amex Options to NYSE American Options.

C. Self-Regulatory Organization's Statement on Comments on the Proposed Rule Change Received From Members, Participants, or Others

No written comments were solicited or received with respect to the proposed rule change.

III. Date of Effectiveness of the Proposed Rule Change and Timing for Commission Action

The proposed rule change has become effective pursuant to Section 19(b)(3)(A) of the Act ¹¹ and Rule 19b-4(f)(3) ¹² thereunder. At any time within 60 days of the filing of the proposed rule change, the Commission summarily may temporarily suspend such rule change if it appears to the Commission that such action is necessary or appropriate in the public interest, for the protection of investors, or otherwise in furtherance of the purposes of the Act. If the Commission takes such action, the Commission shall institute proceedings under Section 19(b)(2)(B) ¹³ of the Act to determine whether the proposed rule change should be approved or disapproved.

¹¹ 15 U.S.C. 78s(b)(3)(A).

¹² 17 CFR 240.19b-4(f)(3).

¹³ 15 U.S.C. 78s(b)(2)(B).

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an email to rule-comments@sec.gov. Please include File Number SR-NYSEARCA-2017-108 on the subject line.

Paper Comments

• Send paper comments in triplicate to Secretary, Securities and Exchange Commission, 100 F Street NE., Washington, DC 20549-1090.

All submissions should refer to File Number SR-NYSEARCA-2017-108. This file number should be included on the subject line if email is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street NE., Washington, DC 20549 on official business days between the hours of 10:00 a.m. and 3:00 p.m. Copies of the filing also will be available for inspection and copying at the principal office of the Exchange. All comments received will be posted without change; the Commission does not edit personal identifying information from submissions. You should submit only information that you wish to make available publicly. All submissions should refer to File Number SR-NYSEARCA-2017-108 and should be submitted on or before October 16, 2017.

For the Commission, by the Division of Trading and Markets, pursuant to delegated authority. ¹⁴
¹⁴ 17 CFR 200.30-3(a)(12).
Eduardo A. Aleman,
Assistant Secretary.

[FR Doc. 2017-20363 Filed 9-22-17; 8:45 am]

BILLING CODE 8011-01-P